UNIFIED CARRIER REGISTRATION PLAN

Sunshine Act Meeting Notice; Unified Carrier Registration Plan Board of Directors Meeting

TIME AND DATE: April 22, 2021, from Noon to 3:00 p.m., Eastern time.

PLACE: This meeting will be accessible via conference call and screen sharing. Any interested person may call 877-853-5247 (US toll free), 888-788-0099 (US toll free), +1 929-205-6099 (US toll), or +1 669-900-6833 (US toll), Conference ID 945 1902 6852, to participate in the meeting. The website to participate via Zoom Meeting and screen share is https://kellen.zoom.us/j/94519026852.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

IV. Approval of Minutes of the March 11, 2021 UCR Board Meeting—UCR Board Chair

For Discussion and Possible Action

Draft Minutes of the March 11, 2021 UCR Board meeting will be reviewed. The Board will consider action to approve.

V. Report of FMCSA—FMCSA Representative

The Federal Motor Carrier Safety Administration (FMCSA) will provide a report on any relevant activity.

VI. Recommendation of the Appointment of a Vice-Chair—UCR Board Chair and UCR Executive Director

For Discussion and Possible Action

The current UCR Vice-Chair has requested that he not be re-appointed to serve another term as a Director on the UCR Board. Therefore, on January 28, 2021, the UCR Board voted to recommend an individual to serve as a Director to succeed the current Vice-Chair. However, at the January 28, 2021 meeting, the UCR Board action did not include a recommendation to the US DOT Secretary to appoint a Vice-Chair. The UCR Board will discuss and may take action to recommend to the US DOT Secretary the appointment of a Director to serve as Vice-Chair.

VII. Updates Concerning UCR Legislation—UCR Board Chair

The UCR Board Chair will call for any updates regarding UCR legislation since the last Board meeting.

VIII. Chief Legal Officer Report—UCR Chief Legal Officer

The UCR Chief Legal Officer will provide an update on the status of the March 2019 data event.

IX. Subcommittee Reports

Audit Subcommittee—UCR Audit Subcommittee Chair

A. MCS-150 Retreat Audit Program—UCR Audit Subcommittee Chair and DSL Transportation

The UCR Audit Subcommittee Chair and the DSL Transportation will lead a discussion regarding the MCS-150 retreat audit program provided by UCR and the progress made with participating states. States may opt into the program. States will remain engaged in the retreat audit process but may have a lesser burden of having to attend to unresponsive/unproductive retreat audits.

B. Solicitation Campaigns for Unregistered Carriers Domiciled in Non-Participating States—UCR Subcommittee Chair and DSL Transportation

The UCR Audit Subcommittee Chair and the DSL Transportation will lead a discussion regarding new solicitation campaigns that will focus on unregistered carriers that appear to operate in interstate commerce and are domiciled in any of the non-participating states.

C. 2020 State UCR Audit Reports—UCR Audit Subcommittee Chair

The UCR Audit Subcommittee Chair will lead a discussion regarding the states upcoming obligations regarding 2020 audit reports. State participants on the call will receive a reminder that the 2020 UCR state annual audit reports are subject to review after March 31, 2021.

D. NRS Testing—Penetration and Vulnerability Testing—UCR Technology Manager

The UCR Technology Manager will provide an update on the status of testing the National Registration System (NRS) to ensure that appropriate measures are taken to resist unwanted attacks.

E. State Compliance Reviews—UCR Depository Manager

The UCR Depository Manager will provide an update on plans to conduct state compliance reviews and will remind states that have been selected for reviews in 2021.

F. Depository Audit Update—UCR Depository Manager

The UCR Depository Manager will provide an update on the status of the 2019 financial statement audit of the UCR Depository and plans for closing the 2019 registration year.

Finance Subcommittee—UCR Finance Subcommittee Chair

A. Funding the Directors and Officers Liability Insurance Reserve—Subcommittee Chair and Depository Manager

For Discussion and Possible Board Action

The Subcommittee Chair and the Depository Manager will present funding options for the Directors and Officers Liability Insurance Reserve. The Board may take action to approve funding this reserve. The Finance Subcommittee recommends that the Board fund this reserve.

B. Funding the Special or Capital Projects Reserve—Subcommittee Chair and Depository Manager

For Discussion and Possible Board Action

The Subcommittee Chair and the Depository Manager will present funding options for the Special or Capital Projects Reserve. The Board may take action to approve funding this reserve. The Finance Subcommittee recommends that the Board fund this reserve.

C. Maturing of Certificate of Deposit—UCR Depository Manager

For Discussion and Possible Board Action

The UCR Depository Manager will provide an update on the CD that matures on April 13, 2021. The Board may take action to reinvest the proceeds. The Finance Subcommittee recommends to the Board that the proceeds be reinvested in a 6-month CD at the Bank of North Dakota.

D. Review UCR Bank Balance Summary Report—UCR Depository Manager

The UCR Depository Manager will review the UCR Bank Balance Summary Report as of March 31, 2021 and answer questions from the Board.

E. Review 2021 Administrative Expenses Through March 31, 2021—UCR Depository Manager

The UCR Depository Manager will present the administrative costs incurred for the period of January 1, 2021 through March 31, 2021, compared to the budget for the same time-period, and discuss all significant variances.

F. Status of 2020 and 2021 Registration Years Fee Collections and Compliance Percentages—UCR Depository Manager

The UCR Depository Manager will provide updates on the results of collections and registration compliance rates for the 2020 and 2021 registration years.

G. Final Distributions to States for the 2021 Registration Year—UCR Depository Manager

The UCR Depository Manager will discuss the final distribution from the Depository for the 2021 registration year, which was completed this week. All participating states have now met their full revenue entitlements for the 2021 registration year.

Education and Training Subcommittee—UCR Education and Training Subcommittee Chair

• Update on Basic Audit Training Module and Flow Chart/Decision Tree—UCR Education and Training Subcommittee Chair

The UCR Education and Training Subcommittee Chair will provide an update on the development of the Basic Audit Training Module and Flow Chart/Decision Tree.

X. Contractor Reports—UCR Executive Director

• UCR Executive Director's Report

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the NRS.

• UCR Administrator Report (Kellen)—UCR Operations and Depository Manager

The UCR Staff will provide a management report covering recent activity for the Depository, Operations, and Communications.

XI. Other Business—UCR Board Chair

The UCR Board Chair will call for any business, old or new, from the floor.

XII. Adjournment—UCR Board Chair

The UCR Board Chair will adjourn the meeting.

This agenda will be available no later than 5:00 p.m. Eastern time, April 14, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-07986 Filed 4-14-21; 11:15 am]

BILLING CODE 4910-YL-P